DEPARTMENT OF LABOR

Occupational Safety and Health Administration

29 CFR Part 1904

[Docket No. OSHA-2021-0006]

RIN 1218-AD40

Improve Tracking of Workplace Injuries and Illnesses

AGENCY: Occupational Safety and Health Administration (OSHA), Labor.

ACTION: Extension of comment period.

SUMMARY: The Occupational Safety and Health Administration (OSHA) is extending the comment period on the proposed rule on Improve Tracking of Workplace Injuries and Illnesses for an additional 30 days, to June 30, 2022.

DATES: The comment period for the proposed rule published March 30, 2022, at 87 FR 18528, is extended. Comments must be submitted by June 30, 2022.

ADDRESSES: Comments: Comments, along with any submissions and attachments, should be submitted electronically at www.regulations.gov, which is the Federal e-Rulemaking Portal. Follow the instructions online for making electronic submissions. After accessing “all documents and comments” in the docket (Docket No. OSHA-2021-0006), check the “proposed rule” box in the column headed “Document Type,” find the document posted on the date of publication of this document, and click the “Comment Now” link. When uploading multiple attachments to www.regulations.gov, please number all of your attachments, because www.regulations.gov will not automatically number the attachments. This will be very useful in identifying all attachments in the preamble. For example, Attachment 1—title of your document, Attachment 2—title of your document, Attachment 3—title of your document. For assistance with commenting and uploading documents, please see the Frequently Asked Questions on www.regulations.gov.

Instructions: All submissions must include the agency's name and the docket number for this rulemaking (Docket No. OSHA-2021-0006). All comments, including any personal information you provide, are placed in the public docket without change and may be made available online at www.regulations.gov. Therefore, OSHA cautions commenters about submitting information they do not want made available to the public, or submitting materials that contain personal information (either about themselves or others), such as Social Security numbers and birthdates.

Docket: To read or download comments and other materials submitted in the docket, go to Docket No. OSHA-2021-0006 at www.regulations.gov. All comments and submissions are listed in the www.regulations.gov index; however, some information (e.g., copyrighted material) is not publicly available to read or download through that website. All comments and submissions, including copyrighted material, are available for inspection through the OSHA Docket Office.¹ Contact the OSHA Docket Office at (202) 693-2350, (TTY (877) 889-5627) for information about materials not available through the website, and for assistance in using the internet to locate docket submissions.

¹ Documents submitted to the docket by OSHA or stakeholders are assigned document identification numbers (Document ID) for easy identification and retrieval. The full Document ID is the docket number plus a unique four-digit code. OSHA is identifying supporting information in this document by author name, publication year, and the last four digits of the Document ID.

Electronic copies of this Federal Register document are available at www.regulations.gov. This document, as well as news releases and other relevant information, is available at OSHA's website at www.regulations.gov.

FOR FURTHER INFORMATION CONTACT: For press inquiries: Contact Frank Meilinger, Director, Office of Communications, Occupational Safety and Health Administration, U.S. Department of Labor; telephone (202) 693-1999; email: meilinger.francis2@dol.gov.

For general information and technical inquiries: Contact Lee Anne Jillings, Director, Directorate of Technical Support and Emergency Management, U.S. Department of Labor; telephone (202) 693-2300; email: Jillings.LeeAnne@dol.gov.

SUPPLEMENTARY INFORMATION: On March 30, 2022, OSHA published a notice of proposed rulemaking to amend its recordkeeping regulation to require certain employers to electronically submit injury and illness information to OSHA that employers are already required to keep under the recordkeeping regulation (87 FR 18528). The notice set a deadline of May 31, 2022, for submitting written comments. OSHA has received a request from the American Federation of Labor and Congress of Industrial Organizations (AFL-CIO) to extend the comment period between 30 to 60 additional days (Document ID 0027). The AFL-CIO's request explains that the agency has multiple deadlines within a one-week period, and the AFL-CIO wishes to have time to meaningfully respond to the important issues in both this notice and the several other requests for comment by OSHA. After reviewing this comment, OSHA has decided to extend the deadline for submitting comments to June 30, 2022, in order to provide stakeholders an additional 30 days (90 days total) to prepare and submit meaningful responses to this rulemaking.

Authority and Signature

This document was prepared under the direction of Douglas L. Parker, Assistant Secretary of Labor for Occupational Safety and Health, U.S. Department of Labor, 200 Constitution Avenue NW, Washington, DC 20210. It is issued under sections 8 and 24 of the Occupational Safety and Health Act (29 U.S.C. 657, 673), section 553 of the Administrative Procedure Act (5 U.S.C. 553), and Secretary of Labor's Order No. 08-2020 (85 FR 58393, Sept. 18, 2020).

Signed at Washington, DC.
Douglas L. Parker,
Assistant Secretary of Labor for Occupational Safety and Health.

[FR Doc. 2022-11213 Filed 5-24-22; 8:45 am]

BILLING CODE 4510-26-P